ENVIRONMENTAL PROTECTION AGENCY

[CERCLA 01-2021-0058; FRL-10023-44-Region 1]

Proposed CERCLA Administrative Cost Recovery Settlement: Former Healy School Site, Fall River, Massachusetts

AGENCY: Environmental Protection Agency (EPA).

ACTION: Notice of proposed settlement; request for public comments.

SUMMARY: Notice is hereby given of a proposed administrative cost settlement for recovery of response costs concerning the Former Healy School Site, located in Fall River, Bristol County, Massachusetts, with the Settling Party, Spindle City Homes, Inc. To settle EPA's claim for recovery of response costs, which amount to approximately $1,577,000, the proposed settlement requires the Settling Party to pay EPA an amount equal to the sale price of the property of $450,000 minus $5,000 for attorney fees, reasonable closing costs, reasonable broker's fees and any outstanding real estate taxes or other municipal liens owed to the City of Fall River at the time of the closing. In exchange, EPA will release its lien and provide the Settling Party with a covenant not to sue for the Site. For 30 days following the date of publication of this notice, the Agency will receive written comments relating to the settlement for recovery of response costs.

DATES: Comments must be submitted by June 10, 2021.

ADDRESSES: Comments should be addressed to Michelle Lauterback, Senior Enforcement Counsel, Office of Regional Counsel, U.S. Environmental Protection Agency, 5 Post Office Square, Suite 100 (04-2), Boston, MA 02109-3912, (617) 918-1774, lauterback.michelle@epagov, and should reference the Former Healy School Site, U.S. EPA Docket No: CERCLA 01-2021-0058.

FOR FURTHER INFORMATION CONTACT: A copy of the proposed settlement may be obtained from Stacy Greendlinger, Superfund and Emergency Management Division, U.S. Environmental Protection Agency, Region I, 5 Post Office Square, Suite 100 (02-2), Boston, MA 02109-3912, telephone number: (617) 918-1403, email address: greendlinger.stacy@epa.gov. Direct technical questions to Stacy Greendlinger and legal questions to Michelle Lauterback, Office of Regional Counsel, U.S. Environmental Protection Agency, Region I, 5 Post Office Square, Suite 100 (04-2), Boston, MA 02109-3912, telephone number: (617) 918-1774, email address: lauterback.michelle@epa.gov.

SUPPLEMENTARY INFORMATION: This proposed administrative settlement for recovery of response costs concerning the Former Healy School Site, located in Fall River, Bristol County, Massachusetts, is made in accordance with Section 122(h)(l) of the Comprehensive Environmental Response, Compensation, and Liability Act (CERCLA). EPA covenants not to sue or take administrative action against the Settling Party, Spindle City Homes, Inc., pursuant to Section 107(a) of CERCLA, 42 U.S.C. 9607(a), for Response Costs. In exchange, the Settling Party agrees to pay to EPA an amount equal to the Net Sale Proceeds minus $5,000 for attorney fees and expenses. “Net Sale Proceeds” shall mean the $450,000 sales price set forth in the Purchase and Sale Agreement minus the sum of: (i) Any reasonable closing costs paid regarding the sale; (ii) any reasonable. broker's fees regarding the sale; and (iii) any outstanding real estate taxes or other municipal charges owed to the City of Fall River with respect to the Property that are paid to the City of Fall River at the time of closing. Payment of such amount shall be due within 48 hours of the closing of the sale of the property and within 14 days of receiving payment, EPA will provide Settling Party with a release of lien. The Agency will consider all comments received and may modify or withdraw its consent to this cost recovery settlement if comments received disclose facts or considerations which indicate that the settlement is inappropriate, improper, or inadequate. The Agency's response to any comments received will be available for public inspection at the Environmental Protection Agency—Region I, 5 Post Office Square, Suite 100, Boston, MA 02109-3912. The Effective Date of the Agreement is the date upon which EPA notifies Spindle City Homes, Inc. that the public comment period has closed and that such comments, if any, do not require that EPA modify or withdraw from the Agreement. If the closing of the sale of the Property pursuant to the Purchase and Sale Agreement does not take place on or before November 1, 2021, this Agreement is voidable at the discretion of EPA. The proposed settlement has been approved by the Environmental and Natural Resources Division of the United States Department of Justice.

Bryan Olson,
Director, Superfund and Emergency Management Division.

[FR Doc. 2021-09917 Filed 5-10-21; 8:45 am]

BILLING CODE 6560-50-P